DEPARTMENT OF JUSTICE

Bureau of Alcohol, Tobacco, Firearms and Explosives

[OMB Number 1140-0100]

Agency Information Collection Activities; Proposed eCollection eComments Requested; Extension With Change of a Currently Approved Collection; Report of Multiple Sale or Other Disposition of Certain Rifles—ATF Form 3310.12

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995.

DATES: Comments are encouraged and will be accepted for 60 days until January 15, 2021.

FOR FURTHER INFORMATION CONTACT: If you have additional comments, regarding the estimated public burden or associated response time, suggestions, or need a copy of the proposed information collection instrument with instructions, or additional information, please contact: Neil Troppman, ATF National Tracing Center Division, Law Enforcement Support Branch, either by mail at 244 Needy Road, Martinsburg, WV 25401, by email at ntclawenforcementsupport@atf.gov or by telephone at 304-260-1510.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Extension with change of a currently approved collection.

2. The Title of the Form/Collection: Report of Multiple Sale or Other Disposition of Certain Rifles.

3. The agency form number, if any, and the applicable component of the Department sponsoring the collection:

Form number (if applicable): ATF Form 3310.12.

Component: Bureau of Alcohol, Tobacco, Firearms and Explosives, U.S. Department of Justice.

4. Affected public who will be asked or required to respond, as well as a brief abstract:

Primary: Business or other for-profit.

Other (if applicable): None.

Abstract: Federal firearms licensees (FFLs) who are dealers and pawnbrokers in Arizona, California, New Mexico and Texas, must report multiple sale or other disposition of two or more rifles with the following characteristics: (a) Semi-automatic, (b) caliber greater than .22, and (c) the ability to accept a detachable magazine. These FFLs must complete the Report of Multiple Sale or Other Disposition of Certain Rifles—ATF Form 3310.12 regarding such sale or other disposition to an unlicensed person, whether it occurs one time or within five consecutive business days.

5. An estimate of the total number of respondents and the amount of time estimated for an average respondent to respond: An estimated 1,000 respondents will utilize the form about twice annually, and it will take each respondent approximately 12 minutes to complete their responses.

6. An estimate of the total public burden (in hours) associated with the collection: The estimated annual public burden associated with this collection is 400 hours, which is equal to 1,000 (# of respondents) * 2 (# of responses per respondent) * .2 (12 minutes).

7. An Explanation of the Change in Estimates: The adjustments associated with this collection include a decrease in the number of respondents and responses by 870 and 7,640 respectively. Consequently, both the public burden hours and public cost burden have also reduced by 1,492 and $20,067 respectively, since the last renewal in 2019.

If additional information is required contact: Melody Braswell, Department Clearance Officer, United States Department of Justice, Justice Management Division, Policy and Planning Staff, Two Constitution Square, 145 N Street NE, 3E.405A, Washington, DC 20530.

Dated: November 10, 2020.
Melody Braswell,
Department Clearance Officer for PRA, U.S. Department of Justice.

[FR Doc. 2020-25244 Filed 11-13-20; 8:45 am]

BILLING CODE 4410-18-P